DEPARTMENT OF HEALTH AND HUMAN SERVICES

Substance Abuse and Mental Health Services Administration

Solicitation of Nominations for Organizations To Serve as Non-Voting Liaison Representatives to the Advisory Committee on Women's Services (ACWS) Subcommittee on Maternal Mental Health; Second Notice

AGENCY: Substance Abuse and Mental Health Services Administration (SAMHSA), Department of Health and Human Services.

ACTION: Notice.

SUMMARY: The Substance Abuse and Mental Health Services Administration (SAMHSA) within the Department of Health and Human Services (HHS), is soliciting nominations from qualified organizations to be considered for non-voting liaison representative positions on a subcommittee of the Advisory Committee for Women's Services (ACWS) focused on maternal mental health.

DATES: Nomination period is open until May 31, 2023.

ADDRESSES: All nominations should be sent to Valerie Kolick, Designated Federal Officer, Advisory Committee on Women's Services, SAMHSA, 18th Floor, 5600 Fishers Ln., Rockville, MD 20857. Nomination materials, including attachments, may be submitted electronically to valerie.kolick@samhsa.hhs.gov.

FOR FURTHER INFORMATION CONTACT: Valerie Kolick, Designated Federal Officer, Advisory Committee on Women's Services, SAMHSA, 5600 Fishers Ln., Rockville, MD 20857. Telephone number (240) 276-1738. Inquiries can be sent to valerie.kolick@samhsa.hhs.gov.

SUPPLEMENTARY INFORMATION: The ACWS subcommittee will consist of 5 non-voting liaison representatives who are nominated by their organizations to serve as the representatives of their organizations and selected by the ACWS DFO. The ACWS's role is to advise the Associate Administrator for Women's Services (AAWS) on appropriate activities to be undertaken by the agencies of the Administration with respect to women's substance use and mental health services, including services which require a multidisciplinary approach. These may include discussion on the development of policies and programs regarding women's issues; plans to standardize and enhance the collection of data on women's health, and other emerging issues concerning women's substance use and mental health services. In particular, this subcommittee will focus on maternal mental health issues (which includes substance use) including prevention, screening, diagnosis, treatment, equity and community-based interventions. These five non-voting liaison representative positions will be occupied by individuals who are nominated by their organizations to serve as representatives of organizations concerned with maternal mental health. Organizations will be designated to occupy the positions for a two-year term to commence during the 2023 calendar year. Nominations of qualified organizations are being sought for these five non-voting liaison representative positions. The organizations chosen for representation on ACWS subcommittee will be selected by the Designated Federal Officer (DFO) or designee during the 2023 calendar year. Details of nomination requirements are provided below.

The purpose of the ACWS is to advise the Associate Administrator for Women's Services (AAWS) on appropriate activities to be undertaken by the agencies of the Administration with respect to women's substance abuse and mental health services, including services which require a multidisciplinary approach. These may include discussion on the development of policies and programs regarding women's issues; plans to standardize and enhance the collection of data on women's health, and other emerging issues concerning women's substance abuse and mental health services.

Management and support services for Committee activities are provided by staff from the HHS SAMHSA. The ACWS charter is available at https://www.samhsa.gov/about-us/advisory-councils/acws/committee-charter. ACWS meetings are held not less than two times per fiscal year. The ACWS shall consist of not more than ten (10) members to be appointed by the Assistant Secretary for Mental Health and Substance Use, a majority of whom shall be women, who are not officers or employees of the Federal Government. Members shall be from among physicians, practitioners, treatment providers, and other health professionals, whose clinical practice, specialization, or professional expertise includes a significant focus on women's substance use and mental health conditions.

Subcommittees of the ACWS may be established with the approval of the Assistant Secretary or the AAWS. The advice/recommendations of a subcommittee must be deliberated by the parent committee. A subcommittee may not provide advice or work products directly to the agency. The Department Committee Management Officer will be notified upon the establishment of each subcommittee and will be provided information on its name, membership, function, and estimated frequency of meetings.

Nominations

SAMHSA is requesting nominations of organizations to fill five non-voting liaison representative positions for the ACWS Subcommittee on maternal mental health. The organizations for representation will be selected by the DFO or designee during the 2023 calendar year.

Selection of organizations that will serve as non-voting liaison representatives will be based on the organization's qualifications to contribute to the accomplishment of the ACWS mission, as described in the Committee charter. In selecting organizations to be considered for these positions, SAMHSA will give close attention to equitable geographic distribution and give priority to U.S.-chartered 501(c)(3) organizations that operate within the United States and have membership with demonstrated expertise in maternal mental health and related research, clinical services, or advocacy and outreach on issues concerning maternal mental health.

Organizations that currently have non-voting liaison representatives serving on ACWS are also eligible for nomination or to nominate themselves for consideration.

The individual designated by the selected organization to serve as the official liaison representative will perform the associated duties without compensation, and will not receive per diem or reimbursement for travel expenses. The organizations that are selected will cover expenses for their designated representative to attend, at a minimum, one in-person ACWS meeting per year during the designated term of appointment.

To qualify for consideration of selection to the Committee, an organization should submit the following items:

(1) A statement of the organization's history, mission, and focus, including information that demonstrates the organization's experience and expertise in maternal mental health and related research, clinical services, or advocacy and outreach on issues of maternal mental health, as well as expert knowledge of the broad issues and topics pertinent to maternal mental health. This information should demonstrate the organization's proven ability to work and communicate with the maternal mental health patient and advocacy community, and other public/private organizations concerned with maternal mental health, including public health agencies at the Federal, State, and local levels.

(2) Two to four letters of recommendation that clearly state why the organization is qualified to serve on the ACWS subcommittee on maternal mental health in a non-voting liaison representative position. These letters should be from individuals who are not part of the organization.

(3) A statement that the organization is willing to serve as a non-voting liaison representative of the Sub-Committee and will cover expenses for their representative to attend in-person, at a minimum, one ACWS meeting per year in Rockville, MD during the designated term of appointment.

(4) A current financial disclosure statement (or annual report) demonstrating the organization's ability to cover expenses for its selected representative to attend, at a minimum, one ACWS subcommittee meeting per year in Rockville, MD, during the term of appointment.

Submitted nominations must include these critical elements in order for the organization to be considered for one of the liaison representative positions.

Nomination materials should be typewritten, using a 12-point font and double-spaced. Nominations are being accepted on a rolling deadline until positions are filled.

Electronic submissions: Nomination materials, including attachments, may be submitted electronically to valerie.kolick@samhsa.hhs.gov. Telephone and facsimile submissions cannot be accepted.

Regular, Express or Overnight Mail: Written documents may be submitted to the following addressee only: Valerie Kolick, Designated Federal Officer, ACWS, SAMHSA, 18th Floor, Office of Intergovernmental and Public Affairs, 5600 Fishers Ln., Rockville, MD 20857.

HHS makes every effort to ensure that the membership of Federal advisory committees is fairly balanced in terms of points of view represented. Every effort is made to ensure that a broad representation of geographic areas, sex, ethnic and minority groups, and people with disabilities are given consideration for membership on Federal advisory committees. Selection of the represented organizations shall be made without discrimination against the composition of an organization's membership on the basis of age, sex, race, ethnicity, sexual orientation, disability, and cultural, religious, or socioeconomic status.

Authority: The Substance Abuse and Mental Health Services Administration's (SAMHSA) Advisory Committee for Women's Services (ACWS) is required by 42 U.S.C. 290aa; section 501(f)(2)(C) of the Public Health Service Act, as amended. The ACWS is governed by the provisions of the Federal Advisory Committee Act (FACA), as amended, 5 U.S.C. ch. 10.

Dated: April 18, 2023.
Carlos Castillo,
Committee Management Officer.

[FR Doc. 2023-08466 Filed 4-20-23; 8:45 am]

BILLING CODE 4162-20-P